DEPARTMENT OF HEALTH AND HUMAN SERVICES

Substance Abuse and Mental Health Services Administration

Fiscal Year (FY) 2002 Funding Opportunities

AGENCY: Substance Abuse and Mental Health Services Administration, HHS.

ACTION: Notice of Funding Availability for Targeted Capacity Expansion: National Technical Assistance Center for the Mental Health Services Needs of Older Adults.

SUMMARY: The Substance Abuse and Mental Health Services Administration (SAMHSA) Center for Mental Health Services (CMHS) announces the availability of FY 2002 funds for a cooperative agreement for the following activity. This notice is not a complete description of the activity; potential applicants must obtain a copy of the Guidance for Applicants (GFA), including Part I, Targeted Capacity Expansion: National Technical Assistance Center for the Mental Health Services Needs of Older Adults (SM 02-016), and Part II, General Policies and Procedures Applicable to all SAMHSA Applications for Discretionary Grants and Cooperative Agreements, before preparing and submitting an application.

Activity | Application deadline | Est. funds FY 2002 | Est. number of awards | Project period
Older Adult Technical Assistance | July 24, 2002 | $900,000 | 1 | 3 years.

The actual amount available for the award may vary, depending on unanticipated program requirements and the number and quality of applications received. This program is authorized under Section 520A of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network (KEN), P.O. Box 42490, Washington, DC 20015, Telephone: 1-800-789-2647.

The PHS 5161-1 application form and the full text of the grant announcement are also available electronically via SAMHSA's World Wide Web Home Page: http://www.samhsa.gov (Click on “Grant Opportunities”)

When requesting an application kit, the applicant must specify the particular announcement number for which detailed information is desired. All information necessary to apply, including where to submit applications and application deadline instructions, are included in the application kit.

Purpose: The Substance Abuse and Mental Health Services Administration (SAMHSA), Center for Mental Health Services (CMHS) announces the availability of fiscal year (FY) 2002 funds for increasing service capacity for older persons with mental health needs. One type of award will be made under the current announcement for a National Technical Assistance Center for the Mental Health Needs of Older Adults. The National Technical Assistance Center will identify, synthesize and disseminate the knowledge base for mental health outreach, prevention, early intervention, assessment, and treatment services for older persons.

Eligibility: Eligibility to apply for the National Technical Assistance Center will be limited to public and private nonprofit entities.

For example, the following are eligible to apply:

• State agencies or departments.

• County agencies.

• City agencies.

• State regional agencies.

Indian tribes or tribal organizations (as defined in Section 4(b) and Section 4(c) of the Indian Self-determination and Education Assistance Act).

• Private, not-for-profit agencies.

• Public or private universities.

States are defined in Section 2 of the PHS Act and include, in addition to the 50 States, the:

• District of Columbia.

• Guam.

• Commonwealth of Puerto Rico.

• Northern Mariana Islands.

• Virgin Islands.

• American Samoa.

• Trust Territory of the Pacific Islands (now Palau, Micronesia, and the Marshall Islands).

Interested parties who do not meet these criteria, are encouraged to partner with an agency or organization that is eligible to apply as the lead agency.

Applicants are encouraged to form partnerships with consumer, family, and consumer-supporter groups who are focused on the needs of older persons, both in the areas of mental health and the general issues of aging.

Applicants who applied for a Group I award as the lead organization under the program described under GFA No. SM 02-009 cannot apply as the lead organization for the Technical Assistance Center under this announcement.

Availability of Funds: It is estimated that a total of $900,000 will be available to support one award for a National Technical Assistance Center under this GFA in FY 2002. Actual funding levels will depend on the availability of funds. Support may be requested for a period of up to 3 years for the National Technical Assistance Center award (in three budget periods of 1 year each).

Period of Support: An award may be requested for a project period of up to 3 years.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criterion. Additional award criteria specific to the programmatic activity may be included in the application guidance materials.

Catalog of Federal Domestic Assistance Number: 93.243.

Program Contact: For questions concerning program issues, contact: Betsy McDonel Herr, PhD., Government Project Officer (GPO), Center for Mental Health Services, SAMHSA, Room 11C-22 Parklawn Building, 5600 Fishers Lane, Rockville, Maryland 20857, (301) 594-2197, E-mail: bmcdonel@samhsa.gov.

For questions regarding grants management issues, contact: Steve Hudak, Division of Grants Management, OPS/SAMHSA, Rockwall II, 6th floor, 5600 Fishers Lane, Rockville, MD 20857, (301) 443-9666, e-mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2002 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2002 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's website under “Assistance with Grant Applications”. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: June 20, 2002.
Richard Kopanda,
Executive Officer, SAMHSA.

[FR Doc. 02-16321 Filed 6-25-02; 1:58 pm]

BILLING CODE 4162-20-P